INTERNATIONAL TRADE COMMISSION

[Investigation No. 731-TA-894 (Second Review)]

Ammonium Nitrate From Ukraine; Notice of Revised Schedule of the Five-year Review Concerning the Antidumping Duty Order on Ammonium Nitrate From Ukraine

AGENCY: United States International Trade Commission.

ACTION: Notice.

DATES: Effective Date: December 4, 2012.

FOR FURTHER INFORMATION CONTACT: Jennifer Merrill (202-205-3188), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION: On October 17, 2012, the Commission established a schedule for the conduct of the 5-year review of Ammonium Nitrate from Ukraine (77 FR 65015, October 24, 2012). The Commission is revising its schedule as follows: the prehearing briefs are due on March 20, 2013, the prehearing conference will be on April 1, 2013, the hearing will be on April 4, 2013, and the posthearing briefs and non-party written statements are due on April 15, 2013.

For further information concerning this review see the Commission's notice cited above.

Authority: This review is being conducted under authority of title VII of the Tariff Act of 1930; this notice is published pursuant to section 207.62 of the Commission's rules.

By order of the Commission.
Issued: December 5, 2012.
Lisa R. Barton,
Acting Secretary to the Commission.

[FR Doc. 2012-29824 Filed 12-10-12; 8:45 am]

BILLING CODE 7020-02-P